DEPARTMENT OF TRANSPORTATION

Surface Transportation Board

Notice and Request for Comments

AGENCY: Surface Transportation Board, DOT.

ACTION: 60-day notice and request for comments: Application to Open a Billing Account.

SUMMARY: As required by the Paperwork Reduction Act of 1995, 44 U.S.C. 3501-3519 (PRA), the Surface Transportation Board (STB or Board) gives notice of its intent to request from the Office of Management and Budget (OMB) an extension of approval without revision of a currently approved information collection: Application to Open a Billing Account. The information collection is described in detail below. Comments are requested concerning: (1) The accuracy of the Board's burden estimates; (2) ways to enhance the quality, utility, and clarity of the information collected; (3) ways to minimize the burden of the collection of information on the respondents, including the use of automated collection techniques or other forms of information technology, when appropriate; and (4) whether this collection of information is necessary for the proper performance of the functions of the Board, including whether the collection has practical utility. Submitted comments will be summarized and included in the Board's request for OMB approval.

Description of Collection

Title: Application to Open a Billing Account.

OMB Control Number: 2140-0006.

STB Form Number: STB Form 1032.

Type of Review: Extension of a currently approved collection.

Respondents: Rail carriers, shippers, and others doing business before the STB.

Number of Respondents: 5.

Estimated Time per Response: Less than .08 hours, based on actual survey of respondents.

Frequency: One time per respondent.

Total Burden Hours (annually including all respondents): Less than 0.4 hours.

Total “Non-hour Burden” Cost: No “non-hour cost” burdens associated with this collection have been identified.

Needs and Uses: The Board is, by statute, responsible for the economic regulation of freight rail carriers and certain other carriers operating in interstate commerce. This form is used by persons doing business before the Board who wish to open an account with the Board to facilitate their payment of filing fees; fees for the search, review, copying, and certification of records; and fees for other services rendered by the Board. An account holder is billed on a monthly basis for payment of accumulated fees. Data provided is also used for debt collection activities. The application form requests information as required by OMB and U.S. Department of Treasury regulations for the collection of fees. This information is not duplicated by any other agency. In accordance with the Privacy Act, 5 U.S.C. 552a, all taxpayer identification and social security numbers are secured and used only for credit management and debt collection activities.

Retention Period: The STB retains this information until respondent asks to close account and outstanding debts, if any, are paid in full.

DATES: Written comments are due on March 30, 2015.

ADDRESSES: Direct all comments to Marilyn Levitt, Surface Transportation Board, Suite 1260, 395 E Street SW., Washington, DC 20423-0001, or to levittm@stb.dot.gov. When submitting comments, please refer to “Paperwork Reduction Act Comments, Application to Open an Account for Billing Purposes, OMB Number 2140-0006.”

For Further Information or To Obtain a Copy of the STB Form, Contact: Marcin Skomial, (202) 245-0346. [Federal Information Relay Service (FIRS) for the hearing impaired: (800) 877-8339.]

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under 3506(c)(2)(A) of the PRA, Federal agencies are required, prior to submitting a collection to OMB for approval, to provide a 60-day notice and comment period through publication in the Federal Register concerning each proposed collection of information, including each proposed extension of an existing collection of information.

Dated: January 23, 2015.
Raina S. White,
Clearance Clerk.

[FR Doc. 2015-01569 Filed 1-27-15; 8:45 am]

BILLING CODE 4915-01-P